DEPARTMENT OF COMMERCE

International Trade Administration

[A-337-806]

Individual Quick Frozen Red Raspberries From Chile: Notice of Extension of Time Limit for 2001-2003 Administrative Review

AGENCY: Import Administration, International Trade Administration, Department of Commerce.

ACTION: Notice of extension of time limit.

SUMMARY: The Department of Commerce is extending the time limit for the preliminary results of the current review of the antidumping duty order on individual quick frozen red raspberries from Chile. The period of review is December 31, 2001, through June 30, 2003. This extension is made pursuant to section 751(a)(3)(A) of the Tariff Act of 1930, as amended.

EFFECTIVE DATE: March 9, 2004.

FOR FURTHER INFORMATION CONTACT: Blanche Ziv or Cole Kyle, Import Administration, International Trade Administration, U.S. Department of Commerce, 14th Street and Constitution Avenue, NW., Washington, DC 20230; telephone (202) 482-4207 or (202) 482-1503, respectively.

Background

On August 22, 2003, the Department of Commerce (“the Department”) published a notice of initiation of administrative review of the antidumping duty order on individual quick frozen red raspberries from Chile, covering the period December 31, 2001, through June 30, 2003. See Initiation of Antidumping and Countervailing Duty Administrative Reviews, (68 FR 50750). The preliminary results for this review are currently due no later than April 1, 2004.

Extension of Time Limits for Preliminary Results

Section 751(a)(3)(A) of the Act requires the Department to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

We are currently analyzing sales information provided by the three respondents and cost information from one of the respondents in this review. In addition, we are awaiting cost responses from two of the respondents. Because the Department requires time to review and analyze these responses once they are received and to issue supplemental questionnaires if necessary, it is not practicable to complete this review within the originally anticipated time limit (i.e., April 1, 2004). Therefore, the Department is extending the time limit for completion of the preliminary results to not later than July 30, 2004, in accordance with section 751(a)(3)(A) of the Act.

We are issuing and publishing this notice in accordance with sections 751(a)(1) and 777(i)(1) of the Act.

Dated: March 4, 2004.
Jeffrey May,
Deputy Assistant Secretary for AD/CVD Enforcement.

[FR Doc. 04-5282 Filed 3-8-04; 8:45 am]

BILLING CODE 3510-DS-P